DEPARTMENT OF COMMERCE

National Oceanic and Atmospheric Administration

RIN 0648-XR028

Endangered and Threatened Species; Take of Anadromous Fish

AGENCY: National Marine Fisheries Service (NMFS), National Oceanic and Atmospheric Administration (NOAA), Commerce.

ACTION: Notice of availability; Applications for seven new scientific research permits, three permit renewals, and one permit modification.

SUMMARY: Notice is hereby given that NMFS has received 11 scientific research permit application requests relating to Pacific salmon and steelhead, rockfish, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5p.m. Pacific standard time on September 3, 2019.

ADDRESSES: Written comments on the applications should be sent to the Protected Resources Division, NMFS, 1201 NE Lloyd Blvd., Suite 1100, Portland, OR 97232-1274. Comments may also be sent via fax to 503-230-5441 or by email to nmfs.wcr-apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

Chinook salmon (Oncorhynchus tshawytscha): Threatened Puget Sound (PS); threatened lower Columbia River (LCR); threatened Upper Willamette River (UWR); endangered upper Columbia River (UCR); threatened Snake River (SR) spring/summer (spr/sum); threatened SR fall.

Steelhead (O. mykiss): Threatened PS; threatened UCR; threatened middle Columbia River (MCR); threatened SR, threatened LCR; threatened UWR; threatened Central California Coast (CCC); South-Central California Coast (SCCC).

Coho salmon (O. kisutch): Threatened Oregon Coast (OC); threatened LCR, endangered Central California Coast (CCC).

Sockeye salmon (O. nerka): Endangered SR.

Chum salmon (O. keta): Threatened Hood Canal Summer-run (HCS); threatened Columbia River (CR).

Eulachon (Thaleichthys pacificus): Threatened southern (S).

Rockfish (Sebastes spp.): Endangered Puget Sound/Georgia Basin (PS/GB) bocaccio (Sebastes paucispinis); threatened PS/GB yelloweye rockfish (S. ruberrimus).

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1560-5R

The United States Geological Survey (USGS) is seeking to renew for five years a permit that allows them to annually take juvenile and adult LCR Chinook and coho, CR chum, and MCR steelhead while conducting research designed to (1) determine the diversity and distribution of fish species in the White Salmon River (Washington State) and its tributaries, (2) compare populations of salmonids in the White Salmon and tributaries to pre-dam removal levels, (3) contribute to complimentary efforts by the Washington Department of Fish and Wildlife to characterize life history, genetics, and fish health of Chinook stocks in the lower White Salmon River. The study would benefit listed salmonids by providing information on the effects dam removal may have on important fish species such as Chinook, coho, steelhead, Pacific lamprey, bull trout, and sea-run cutthroat trout.

The USGS would capture fish by using a screw trap, backpack electrofishing equipment, and fyke and minnow traps. Captured fish would be anesthetized, measured, weighed, and externally inspected for diseases. Researchers would take fin clips of some captured fish in order to collect genetic tissues. Some juvenile fish would be tagged with passive integrated transponders (PIT) to determine smolt trap efficiency and provide life history information through recaptures and detections at Bonneville Dam as juveniles or adults. The researchers would avoid adult salmonids, but some may be encountered. The researchers do not expect to kill any listed salmonids but a small number may die as an unintended result of the research activities.

Permit 16298-4R

The Shoshone-Bannock Tribes (SBT) are seeking to renew for five years a permit that has been in place since 2011. Under the renewed permit, they would annually take juvenile and adult SR spr/sum Chinook and SR steelhead in Bear Valley Creek, Idaho. The purpose of the research is to estimate fish abundance, smolt-to-adult return rates, and adult productivity in Bear Valley Creek with a high degree of accuracy. The researchers are seeking to generate information that may be used widely throughout the Salmon River subbasin. This monitoring project was recommended as part of a larger monitoring effort that developed through the Columbia Basin Coordinated Anadromous Monitoring Workshop. The work would benefit fish by giving managers key information about population status in the Salmon River subbasin which, in turn, would be used to inform recovery plans and land-management activities. The SBT would count and monitor adult spr/sum Chinook at a video station, and they would handle, measure, tag, and tissue sample juvenile SR spr/sum Chinook and steelhead at a screw trap. They would also do some harvest monitoring (creel surveys) and spawning ground surveys. The researchers do not intend to kill any listed salmonids, but a small number may die as an unintended result of the activities. In addition to this permit, the U.S. Forest Service would issue a special use permit for the SBT to conduct the work.

Permit 19263-2R

The Idaho Department of Fish and Game (IDFG) is seeking to renew a five-year permit to take juvenile SR steelhead, sockeye, and spr/sum Chinook during the course of three research tasks in the upper Salmon River of Idaho State. They would (a) conduct a general fish population inventory, (b) monitor fish population responses to habitat improvement and restoration activities, and (c) document juvenile Chinook salmon rearing and winter habitat use in the Salmon River. The researchers would use drift boat and raft-mounted electrofishing gear to capture fish and estimate trout abundances in up to five monitoring reaches of the Salmon River during the fall.

Captured fish would be identified by species, measured (total length & fork length), and weighed to the nearest gram. During marking runs, captured target species (rainbow trout, westslope cutthroat trout, bull trout, and mountain whitefish) would be marked with a hole punch in the caudal fin. Any juvenile Chinook salmon the researchers encounter would be identified, measured (fork length), weighed, and examined for tags/marks. Unmarked juvenile Chinook salmon would be implanted with PIT tags. Some captured fish may be anesthetized to minimize stress. In all cases, adult salmonids would be avoided and none would be captured. To help with this, the researchers would operate at times and in locations where no adults are likely to be present. The research activities would benefit the fish by providing information on a suite of factors—population abundance and response to restoration actions, predator and competitor abundance and interactions, and life history and behavior characteristics—all of which would be used to inform management, restoration, and recovery decisions in the Salmon River. The researchers do not intend to kill any fish, but a small number may die as a consequence of the planned activities.

Permit 16318-3M

Hagar Environmental Science (HES) is seeking to modify a five-year permit that currently allows them to take juvenile and smolt CCC coho salmon, CCC steelhead, and SCCC steelhead in the San Lorenzo River (including Newell Creek, Zayante Creek, and Mountain Charlie Creek), Liddell Creek, Laguna Creek, and Majors Creek in Santa Cruz County, and in the Salinas River (including Arroyo Seco River, Nacimiento River, San Antonio River, and upper tributaries) in Monterey and San Luis Obispo Counties, CA. The research is designed to (1) provide ESA-listed salmonid population, distribution, and habitat assessment data to inform watershed management, and (2) establish baseline population abundances preceding the implementation of habitat conservation measures. The researchers propose to capture fish with beach seines and backpack electrofishing. Fish would be enumerated, measured, and observed for external condition. A subset of the captured fish would be anesthetized, measured, weighed, PIT-tagged, have a tissue sample taken, allowed to recover, and released. The researchers would also observe fish during snorkel/dive surveys. The researchers do not intend to kill any listed fish, but some may die as an inadvertent result of the research. This modification is being requested to increase the number of juvenile CCC steelhead allowed under the permit because, in previous years, the researchers encountered greater numbers of CCC steelhead than were originally expected.

Permit 22319

Herrera Environmental Consultants (HEC) is seeking a five-year research permit to annually take juvenile PS Chinook salmon and PS steelhead while conducting a study in streams near Redmond, Washington. The purpose of the research is to conduct a paired watershed study monitoring stream health by collecting benthic macroinvertebrates in urban and nearby relatively pristine streams. Due to the collection methods, there is a possibility of capturing juvenile salmonids. The research would benefit listed fish by determining the effectiveness of stormwater management in urban streams which can lead directly to water quality and habitat improvement. The HEC proposes capturing fish using a D-frame kick net. Any fish captured would be identified to species and released. The researchers do not intend to kill any of the fish being captured, but a small number may die as an unintended consequence of the proposed activities.

Permit 22596

The United States Geological Survey (USGS) is seeking a five-year research permit to annually take juvenile and adult OC coho salmon downstream of Lake Creek Falls in Lane Creek in the Siuslaw River watershed (Lane County, OR). The purpose of the research is to evaluate timing, duration, and probability of successful passage through the fish passage structures over Lake Creek Falls. The research would benefit the recovery of the OC coho salmon in this basin by providing information to help guide decisions regarding the need to either maintain or modify passage structures at Lake Creek Falls which allows for access to high quality, upstream spawning habitat in Lake Creek. The USGS proposes capturing fish using hook-and-line angling, beach seines, and net traps. Adult coho salmon would be captured, anesthetized with MS-222, gastrically implanted with an internal radio-telemetry tag, allowed to recover, and released. Fish would be tracked on at least a daily basis. All other captured fish would be identified to species and released. The USGS does not intend to kill any of the fish being captured, but a small number may die as an unintended consequence of the proposed activities.

Permit 22865

The United States Forest Service (USFS) is seeking a five-year permit that would allow them to annually take juvenile endangered UCR Chinook salmon, juvenile threatened UCR steelhead, and juvenile threatened MCR steelhead during research activities taking place at various points in the Yakima, Methow, Entiat, and Wenatchee River drainages in Washington State. The USFS conducted has previously conducted this research under another permit (1422), but that permit was allowed to expire and they are seeking to start again. Under the new permit, the fish would be captured (using minnow traps, hook-and-line angling, and electrofishing equipment), identified, and immediately released. The purpose of the research is to determine fish distribution in the subbasins listed above. The research would benefit the fish by giving land managers information they need in order to design forest management activities (e.g., timber sales, grazing plans, road building) so that they have the least possible effect on listed species. The USFS does not intend to kill any of the listed fish being captured, but a small number may die as an unintended result of the research activities.

Permit 22929

The USFS is seeking a five-year research permit to annually take juvenile and adult UWR Chinook salmon in the South Fork McKenzie River (Lane County, OR). The purposes of the study is to determine how food webs change through time following Stage-0 stream restoration by quantifying (1) the secondary production of aquatic invertebrates, (2) the proportion of different food items in fish and invertebrate diets, and (3) the food web pathways that support fish. Stage-0 restoration restores fluvial processes at the valley scale, and then letting the river valley shape itself in response to environmental and biological drivers. Stage-0 restoration has now been implemented at 20 sites in Oregon. The research would benefit the affected species by determining if this type of stream and habitat restoration is beneficial to listed salmon by comparing these stage-0 sites to control sites. The USFS proposes to capture fish using backpack electrofishing equipment, beach seines, minnow traps, and hook and line angling. Any adult Chinook salmon would be immediately released. All other fish would be moved to an aerated bucket, anesthetized with AQUI-S, identified to species, measured for length, and weighed. Annually, up to 120 juvenile Chinook salmon would undergo gastric lavage for diet analysis and be fin clipped (caudal) for isotope analysis. After handling, fish would be placed in a recovery bucket and released when ready. The USFS does not intend to kill any of the fish being captured, but a small number may die as an unintended consequence of the proposed activities.

Permit 22944

The Northwest Fisheries Science Center (NWFSC) is seeking a five-year permit that would allow it to annually take listed salmonids while collecting data from a suite of reference sites in the Lower Columbia River. The NWFSC is requesting to take SR spring/summer Chinook salmon, SR fall Chinook salmon, SR sockeye, SR steelhead, UCR Chinook salmon, UCR steelhead, MCR steelhead, LCR Chinook salmon, LCR coho salmon, LCR steelhead, UWR Chinook salmon, UWR steelhead, and CR chum salmon. The purposes of the study are to (1) document patterns of habitat occurrence in juvenile salmon stocks in tidal freshwater habitats in the Columbia River below Bonneville Dam, (2) collect salmon data on diets and prey availability; (3) collect information on indicators of salmon health and growth; and (4) monitor effectiveness of salmonid habitat restoration activities. The study would benefit listed fish by providing information on how habitat degradation may be affecting listed stocks, and helping managers take steps to improve habitat quality. The NWFSC would use beach- and pole seines to collect the fish. Most of the collected juveniles would be identified, counted, weighed, measured, and checked for tags and fin clips. A subset of salmon species may be selected for non-lethal tissue take for genetics analysis. A further subset of Chinook salmon would be sacrificed to determine lipid content and collect otoliths (for health and growth assessment), collect stomach contents for diet analyses, and collect tissue samples for genetic stock identification. The great majority of the captured fish are expected to be released unharmed.

Permit 22998

The United States Fish and Wildlife Service (FWS) is seeking a two-year research permit to annually take juvenile and adult PS Chinook salmon, HCS chum salmon, and PS steelhead in streams and waterbodies on the Kitsap Peninsula (Kitsap County, WA). The purpose of the study is to determine if ESA-listed salmonids are present which would help guide future land use management and fulfill requirements in the Navy Base Kitsap's Natural Resource Management Plan. This research would benefit the affected species by helping guide habitat restoration and providing baseline information on species distribution. Currently, there is no information about the distribution of ESA-listed salmonids on Navy Base Kitsap lands. The FWS proposes to capture fish using backpack electrofishing equipment, beach seines, and dip nets. For electrofishing, fish would be anesthetized (MS-222), identified to species, measured for length, weighed, and released after recovery. For beach seines and dip netting, captured fish would be identified to species and released. Snorkel and spawner surveys would also be conducted. The FWS does not intend to kill any of the fish being captured, but a small number may die as an unintended consequence of the proposed activities.

Permit 23029

The NWFSC is seeking a two-year research permit to annually take juvenile and adult PS Chinook salmon and juvenile PS steelhead and PS/GB bocaccio in multiple Puget Sound river estuaries and bays (Washington State). The NWFSC research may also cause them to take juvenile PS/GB yelloweye rockfish and adult and juvenile S eulachon—species for which there are currently no ESA take prohibitions. The primary study site would be the lower Duwamish River while secondary Puget Sound reference sites would include (but are not exclusive to) the Skagit, Stillaguamish, Puyallup, Nisqually, Snohomish, and Deschutes river estuaries and associated bays.

The purpose of the study is to collect juvenile English sole (Parophrys vetulus) to determine contaminant exposure and the impacts from these contaminants upon the species. Due to their benthic life history and relatively protracted residency in shallow estuarine habitats, juvenile English sole serve well as an indicator species for environmental contaminant exposure. This research would benefit the affected species by identifying the environmental contaminants present that can impact the ESA-listed species, their prey, and their habitat. The NWFSC proposes to capture fish using a beach seine and an otter trawl. Juvenile English sole would be bagged and frozen for whole body and contaminant analyses (i.e., otoliths, stomach contents, and livers). All other species, including ESA-listed species, would be identified to species, checked for tags and fin clips, and immediately released. The NWFSC does not intend to kill any of the fish being captured, but a small number may die as an unintended consequence of the proposed activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: July 29, 2019.
Angela Somma,
Chief, Endangered Species Conservation Division, Office of Protected Resources, National Marine Fisheries Service.

[FR Doc. 2019-16469 Filed 8-1-19; 8:45 am]

BILLING CODE 3510-22-P